DEPARTMENT OF TRANSPORTATION

Federal Aviation Administration

14 CFR Part 39

[Docket No. 2000-NE-60-AD]

RIN 2120-AA64

Airworthiness Directives; Hartzell Propeller Inc. Model HD-E6C-3B/E13890K Propellers

AGENCY: Federal Aviation Administration, DOT.

ACTION: Notice of proposed rulemaking (NPRM).

SUMMARY: The Federal Aviation Administration (FAA) proposes to adopt a new airworthiness directive (AD) that is applicable to Hartzell Propeller Inc. model HD-E6C-3B/E13890K propellers with certain serial numbers of model D-1199-2 propeller control units (PCU's) installed. This proposal would require initial and repetitive inspections for below-limit propeller flight idle blade angles, and, as a terminating action, removal of the affected PCU's from service and performance of a complete Major Periodic Inspection (overhaul) when the applicable time-since-new or time-since-overhaul limit is reached, or when any flight idle blade angle is below limits. This proposal is prompted by a review by Hartzell Propeller Inc. of the model D-1199-2 PCU overhaul procedures, that revealed several dimensional checks and a nondestructive evaluation were not performed on certain serial number PCU's during a Major Periodic Inspection (overhaul). The overhaul procedures are required to comply with the Airworthiness Limitation PCU Major Periodic Inspection (overhaul) directive. The actions specified by the proposed AD are intended to prevent below-limit flight idle propeller blade angles that, if not corrected, could result in degraded aircraft performance and control.

DATES: Comments must be received by December 17, 2002.

ADDRESSES: Submit comments in triplicate to the Federal Aviation Administration (FAA), New England Region, Office of the Regional Counsel, Attention: Rules Docket No. 2000-NE-60-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in the proposed rule may be obtained from Hartzell Propeller Inc. Technical Publications Department, One Propeller Place, Piqua, OH 45356; telephone (937) 778-4200, fax (937) 778-4391. This information may be examined, by appointment, at the FAA, New England Region, Office of the Regional Counsel, 12 New England Executive Park, Burlington, MA.

FOR FURTHER INFORMATION CONTACT: Tomaso DiPaolo, Aerospace Engineer, Chicago Aircraft Certification Office, FAA, Small Airplane Directorate, 2300 East Devon Avenue, Des Plaines, IL 60018; telephone (847) 294-7031, fax (847) 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NE-60-AD.” The postcard will be date stamped and returned to the commenter.

Availability of NPRM's

Any person may obtain a copy of this NPRM by submitting a request to the FAA, New England Region, Office of the Regional Counsel, Attention: Rules Docket No. 2000-NE-60-AD, 12 New England Executive Park, Burlington, MA 01803-5299.

Discussion

The FAA was notified by Hartzell Propeller Inc. that model HD-E6C-3B/E13890K propellers with certain serial numbers of model D-1199-2 PCU's installed, could be potentially out of compliance with the Airworthiness Limitations Chapter of Hartzell Manual 162, by having higher than allowable wear dimensions. This condition is due to improperly performed Major Periodic Inspections (overhauls) by Hartzell Propeller Inc., on 78 PCU's, identified by serial number. This proposal would require initial and repetitive inspections of flight idle blade angles, and performance of a complete Major Periodic Inspection (overhaul) of the affected PCU's or replacement with a serviceable part as terminating action. This proposal is prompted by a review by Hartzell Propeller Inc. of the model D-1199-2 PCU overhaul procedures, that revealed several dimensional checks and a nondestructive evaluation were not performed on certain serial number PCU's. The actions specified in the proposed AD are intended to prevent below-limit flight idle propeller blade angles that, if not corrected, could result in degraded aircraft performance and control.

Manufacturer's Service Information

Hartzell Propeller Inc. has issued Service Bulletins (SB's) No. HD-SB-61-025, dated November 17, 2000, and No. HD-SB-61-025, Revision 1, dated December 20, 2000, that specify initial and repetitive inspections for below-limit propeller flight idle blade angles, and, as terminating action, removal of the affected PCU's from service and performance of a complete Major Periodic Inspection (overhaul) when the applicable time-since-new or time-since-overhaul limit is reached, or when any flight idle blade angle is below limits. The Major Periodic Inspection (overhaul) constitutes completion of paragraphs 2B. and 2C. of the Accomplishment Instructions of Hartzell Service Bulletin (SB) No. HD-SB-61-025, dated November 17, 2000, or SB No. HD-SB-61-025, Revision 1, dated December 20, 2000. Revision 1 was issued to correct the table of affected serial numbers.

FAA's Determination of an Unsafe Condition and Proposed Actions

Since an unsafe condition has been identified that is likely to exist or develop on other propellers of the same type design, the proposed AD would require:

• Initial and repetitive inspections for below-limit propeller flight idle blade angles; and

• As a terminating action of the flight idle blade angle repetitive inspections, removal of the affected PCU's from service and performance of a complete Major Periodic Inspection (overhaul) when the applicable time-since-new or time-since-overhaul limit is reached; or when any flight idle blade angle is below limits.

The proposed actions are required to be done in accordance with the service bulletins described previously.

Economic Analysis

There are approximately 78 Hartzell Propeller Inc. model D-1199-2 PCU's of the affected design in the worldwide fleet. The FAA estimates that 50 PCU's installed on airplanes of U.S. registry would be affected by this proposed AD. The FAA also estimates that it would take approximately 1.5 work hours per propeller to perform the proposed initial inspections, 25 work hours per propeller to perform the proposed PCU replacements, and that the average labor rate is $60 per work hour. Required parts would cost approximately $7,321 per propeller. Based on these figures, the total cost of initial inspections of the proposed AD to U.S. operators is estimated to be $4,500, and the total cost of replacement of the PCU's of the proposed AD to U.S. operators is estimated to be $441,050.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Hartzell Propeller Inc.: Docket No. 2000-NE-60-AD.

Applicability: This airworthiness directive (AD) is applicable to Hartzell Propeller Inc. model HD-E6C-3B/E13890K propellers with certain serial numbers of model D-1199-2 Propeller Control Units (PCU's) installed, as listed in Table 1 of this AD. These propellers are installed on, but not limited to Fairchild Dornier GmbH 328-100 series airplanes.

Note 1: This airworthiness directive (AD) applies to each propeller identified in the preceding applicability provision, regardless of whether it has been modified, altered, or repaired in the area subject to the requirements of this AD. For propellers that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Compliance with this AD is required as indicated, unless already done.

To prevent below-limit flight idle propeller blade angles that, if not corrected, could result in degraded aircraft performance and control, do the following:

Initial and Repetitive Inspection Requirements

(a) On PCU's listed by serial number in the following Table 1 of this AD, at the next “2A” maintenance check, but no later than 600 hours time-in-service from the effective date of this AD, perform an initial flight idle blade angle inspection, in accordance with paragraph 2A. of the Accomplishment Instructions of Hartzell Service Bulletin (SB) No. HD-SB-61-025, Revision 1, dated December 20, 2000. Table 1 follows:

Table 1.—Affected Serial Numbers, Model D-1199-2 PCU's
PCU-A-29 | PCU-A-EFS140 | PCU-A-EFS194 | PCU-A-EFS234 | PCU-A-EFS284
PCU-A-31 | PCU-A-EFS141 | PCU-A-EFS204 | PCU-A-EFS236 | PCU-A-EFS290
PCU-A-44 | PCU-A-EFS144 | PCU-A-EFS207 | PCU-A-EFS239 | PCU-A-EFS292
PCU-A-46 | PCU-A-EFS152 | PCU-A-EFS208 | PCU-A-EFS242 | PCU-A-EFS293
PCU-A-53 | PCU-A-EFS155 | PCU-A-EFS210 | PCU-A-EFS244 | PCU-A-EFS294
PCU-A-54 | PCU-A-EFS158 | PCU-A-EFS212 | PCU-A-EFS245 | PCU-A-EFS302
PCU-A-57 | PCU-A-EFS160 | PCU-A-EFS213 | PCU-A-EFS246 | PCU-A-EFS307
PCU-A-58 | PCU-A-EFS162 | PCU-A-EFS214 | PCU-A-EFS249 | PCU-A-EFS319
PCU-A-59 | PCU-A-EFS165 | PCU-A-EFS218 | PCU-A-EFS250 | PCU-A-EFS320
PCU-A-EFS101 | PCU-A-EFS182 | PCU-A-EFS220 | PCU-A-EFS257 | PCU-A-EFS326
PCU-A-EFS106 | PCU-A-EFS184 | PCU-A-EFS223 | PCU-A-EFS261 | PCU-A-EFS328
PCU-A-EFS109 | PCU-A-EFS185 | PCU-A-EFS224 | PCU-A-EFS266 | PCU-A-EFS330
PCU-A-EFS110 | PCU-A-EFS187 | PCU-A-EFS225 | PCU-A-EFS268 | PCU-A-EFS340
PCU-A-EFS111 | PCU-A-EFS188 | PCU-A-EFS226 | PCU-A-EFS269 | PCU-A-EFS347
PCU-A-EFS120 | PCU-A-EFS192 | PCU-A-EFS228 | PCU-A-EFS271
PCU-A-EFS122 | PCU-A-EFS193 | PCU-A-EFS233 | PCU-A-EFS279

(b) Remove PCU's that fail the inspection in paragraph (a) of this AD and perform a Major Periodic Inspection (overhaul), in accordance with paragraphs 2.B. and 2.C. of the Accomplishment Instructions of Hartzell Service Bulletin (SB) No. HD-SB-61-025, Revision 1, dated December 20, 2000, or replace with a serviceable PCU.

(c) Thereafter, at each successive “4A” maintenance check, but not to exceed 1,200 hours time-in-service, perform the flight idle blade angle inspection until the limiting time-since-overhaul or time-since-new is reached, as specified in Hartzell SB HD-SB-61-025, Revision 1, dated December 20, 2000.

(d) Remove PCU's that fail the inspection in paragraph (c) of this AD and perform a Major Periodic Inspection (overhaul), in accordance with paragraphs 2.B. and 2.C. of Hartzell SB No. HD-SB-61-025, Revision 1, dated December 20, 2000, or replace with a serviceable PCU.

(e) Once the limiting time-since-overhaul or time-since-new specified in Hartzell SB HD-SB-61-025, Revision 1, dated December 20, 2000 is reached, remove the PCU from service and perform a Major Periodic Inspection (overhaul), in accordance with paragraphs 2.B. and 2.C. of Hartzell SB HD-SB-61-025, Revision 1, dated December 20, 2000.

Optional Terminating Action

(f) Replacement with a serviceable PCU is terminating action for the repetitive inspections specified in paragraph (c) of this AD. For the purpose of this AD, a serviceable PCU is one that is not listed in Table 1 of this AD, or is one listed in Table 1 of this AD that has undergone a Major Periodic Inspection (overhaul) after November 17, 2000, in accordance with paragraphs 2.B. and 2.C. of Hartzell SB HD-SB-61-025, Revision 1, dated December 20, 2000.

Alternative Methods of Compliance

(g) An alternative method of compliance or adjustment of the compliance time that provides an acceptable level of safety may be used if approved by the Manager, Chicago Aircraft Certification Office (ACO). An alternative method of compliance to Hartzell SB HD-SB-61-025, Revision 1, dated December 20, 2000, is compliance with Hartzell SB HD-SB-61-025, dated November 17, 2000. Operators must submit their requests through an appropriate FAA Principal Maintenance Inspector, who may add comments and then send it to the Manager, Chicago ACO.

Note 2: Information concerning the existence of approved alternative methods of compliance with this airworthiness directive, if any, may be obtained from the ACO.

Special Flight Permits

(h) Special flight permits may be issued in accordance with §§ 21.197 and 21.199 of the Federal Aviation Regulations (14 CFR 21.197 and 21.199) to operate the airplane to a location where the requirements of this AD can be done.

Issued in Burlington, Massachusetts, on October 11, 2002.
Mark C. Fulmer,
Acting Manager, Engine and Propeller Directorate, Aircraft Certification Service.

[FR Doc. 02-26591 Filed 10-17-02; 8:45 am]

BILLING CODE 4910-13-P